DEPARTMENT OF ENERGY

Federal Energy Regulatory Commission

[Docket No. CP25-10-000]

Transcontinental Gas Pipe Line Company, LLC; Notice of Schedule for the Preparation of an Environmental Assessment for the Southeast Supply Enhancement Project

On October 29, 2024, Transcontinental Gas Pipe Line Company, LLC (Transco) filed an application in Docket No. CP25-10-000 requesting a Certificate of Public Convenience and Necessity and Authorization pursuant to Sections 7(b) and Section 7(c) of the Natural Gas Act to construct and operate certain natural gas pipeline facilities and for the related abandonment of certain compression facilities. The proposed project is known as the Southeast Supply Enhancement Project (Project) and would replace certain facilities and expand Transco's existing system to provide an additional 1,596,900 dekatherms per day of incremental firm transportation capacity in the southeastern United States.

On November 12, 2024, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹ The EA will be issued for a 30-day comment period.

¹ For tracking purposes under the National Environmental Policy Act, the unique identification number for documents relating to this environmental review is EAXX-019-20-000-1732530814. 40 CFR 1501.5(c)(4) (2024).

Schedule for Environmental Review

Issuance of EA—November 7, 2025

90-day Federal Authorization Decision Deadline ²—February 5, 2026

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

The Southeast Supply Enhancement Project would consist of:

• construction of approximately 30.8 miles of 42-inch-diameter pipeline loop in Pittsylvania County, Virginia and Rockingham County, North Carolina; ³

³ A pipeline loop is a segment of pipe constructed parallel to an existing pipeline to increase capacity.

• construction of approximately 294 feet of 30-inch-diameter pipeline and ancillary valves in Rockingham County, North Carolina;

• construction of approximately 24.1 miles of 42-inch-diameter pipeline loop in Guilford, Forsyth, and Davidson Counties, North Carolina;

• addition of compressor units at Transco's existing Compressor Stations 165 in Pittsylvania County, Virginia; 155 in Davidson County, North Carolina; and 150 in Iredell County, North Carolina;

• abandoning three compressor units and replacing with three larger compressor units at Transco's existing Compressor Station 145 in Cleveland County, North Carolina;

• modifications to valve controls at existing mainline valves in Lincoln County and Gaston County, North Carolina;

• piping modifications at Transco's existing Compressor Stations 135 in Anderson County, South Carolina; 125 in Walton County, Georgia; and 105 in Coosa County, Alabama; and

• regulator installation and piping modifications at Transco's existing Compressor Station 120 in Henry County, Georgia.

Background

On May 7, 2024, the Commission issued a Notice of Scoping Period Requesting Comments on Environmental Issues for the Planned Southeast Supply Enhancement Project and Notice of Public Scoping Session (Notice of Scoping). On June 6, 2024, we issued a Notice of Scoping Meetings and Extension of Scoping Period for the Planned Southeast Supply Enhancement Project. Both notices were issued during the pre-filing review of the Project in Docket No. PF24-2-000 and sent to affected landowners; federal, state, and local government agencies; elected officials; environmental and public interest groups; Native American tribes; other interested parties; and local libraries and newspapers.

In response to the Notice of Scoping, the Commission received comments from the National Park Service; U.S. Environmental Protection Agency; U.S. Fish and Wildlife Service Southeast Region; Virginia Department of Environmental Quality; Alabama Department of Environmental Management; Virginia Department of Transportation; Virginia Department of Conservation and Recreation; North Carolina State Senator Alexander; members of the North Carolina General Assembly; City of Danville; Pittsylvania County Board of Supervisors; Town of Chatham; Danville-Pittsylvania Chamber of Commerce; 57 landowners, labor union members, and other interested individuals; as well as 22 businesses and non-governmental organizations. In response to the Notice of Application for the Project we additionally received comments in support of and opposition to Project from approximately 11 state and locally affiliated governmental entities, 17 non-government organizations, 14 businesses, and 31 individuals.

The primary issues raised by the commenters were concerns related to fossil fuel use and climate change; effects on environmental justice communities; impacts on water, wildlife, and cultural resources; property-specific impacts of pipeline construction; property values; safety; alternatives; cumulative impacts; need for increased natural gas supply in the region; and job creation. All substantive comments will be addressed in the EA.

The U.S. Army Corps of Engineers, Norfolk District is a cooperating agency in the preparation of the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Additional information about the Project is available from the Commission's Office of External Affairs at (866) 208-FERC or on the FERC website (www.ferc.gov). Using the “eLibrary” link, select “General Search” from the eLibrary menu, enter the selected date range and “Docket Number” excluding the last three digits (i.e., CP25-10), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: January 22, 2025.
Debbie-Anne A. Reese,
Secretary.

[FR Doc. 2025-01803 Filed 1-27-25; 8:45 am]

BILLING CODE 6717-01-P